DEPARTMENT OF THE INTERIOR

National Park Service

[NPS-WASO-NAGPRA-NPS0037880; PPWOCRADN0-PCU00RP14.R50000]

Notice of Intended Repatriation: Oakland Museum of California, Oakland, CA

AGENCY: National Park Service, Interior.

ACTION: Notice.

SUMMARY: In accordance with the Native American Graves Protection and Repatriation Act (NAGPRA), the Oakland Museum of California (OMCA) intends to repatriate certain cultural items that meet the definition of objects of cultural patrimony and that have a cultural affiliation with the Indian Tribes or Native Hawaiian organizations in this notice.

DATES: Repatriation of the cultural items in this notice may occur on or after June 10, 2024.

ADDRESSES: Anna Bunting, Oakland Museum of California, 1000 Oak Street, Oakland, CA 94607, telephone (510) 318-8493, email nagpra@museumca.org.

SUPPLEMENTARY INFORMATION: This notice is published as part of the National Park Service's administrative responsibilities under NAGPRA. The determinations in this notice are the sole responsibility of the Oakland Museum of California, and additional information on the determinations in this notice, including the results of consultation, can be found in the summary or related records. The National Park Service is not responsible for the determinations in this notice.

Abstract of Information Available

A total of 259 cultural items or lots of items, represented by 188 catalog numbers, have been requested for repatriation. The 259 objects of cultural patrimony are 76 baskets, three rattles, nine awls, 12 yo-koli, two soap root brushes, seven lithics, six netted bags, one pictograph, one flute, one smoking pipe, one turtle charm, one singing bow, four gambling bones, four cooking sticks/tools, three meat drying poles, two fire drills, one root digger, one cloak, one ear ornament, three hair pins, two headnets, one headdress, one necklace, four tremblers, 18 magnesite beads, 31 acorn woodpecker scalps, and 63 lots or individual items of raw or processed natural materials (i.e. acorns and acorn meal; basket material; tumpline and cord; seeds, nuts and berries; eel meat, salmon eggs, grasshoppers, bark, medicinal roots, herbs, mushrooms, tobacco, deer sinew and brain, clam shell, maize).

All of the items on this claim were acquired by Charles P. Wilcomb during various `collecting trips' that he undertook while he was the Curator of the Oakland Public Museum (OPM). All of the items requested for repatriation were donated to the OPM by either Charles P. Wilcomb, or by his daughter, Miss Louise Wilcomb, after his death in 1915. The Oakland Public Museum and its collections were merged into the Oakland Museum of California in 1969.

Twenty-four of the items were collected during Wilcomb's September 29-November 28, 1911, collecting trip. They were acquired by the Oakland Public Museum on December 11, 1911. Wilcomb collected these items from the following sources: Dr. Indian Jim's wife and Captain John Chinaman's wife in Bald Rock, Butte County; and Kittie George, Billy Williams, and an unnamed old woman at Camp Creek and Dogwood Rancheria, Butte County.

One hundred and fifty-four of the items were collected during Wilcomb's November 24-December 27, 1913 collecting trip. They were acquired by the Oakland Public Museum on January 7, 1914. Wilcomb collected these items from the following sources: Hood Smith's wife (Cleo Martin Smith), Johnny Johnson's wife (Cordelia Martin Johnson), and an unnamed old woman in Brush Creek, Butte Co.; Fanny Wagner, Old Woman Maggie, Rose Edward, an unnamed old woman, and an unnamed individual at Ed Wagner's Camp, Hunter's Ravine, Plumas Co.; John Kennedy at Middle Fork, Feather River, Butte Co.; Dick Harris and his wife (Emeline Harry) at Dick Harris camp, Beau Creek, Butte Co (Dick Harris- listed in OPM ledgers- is a misspelling of Dick Harry, and Beau Creek is a misspelling of Bean Creek); Henry Flinn at Bald Rock, Butte Co; An unnamed individual at Berry Creek, Butte Co.; From the old council house near Sulphur Springs, Berry Creek, Butte Co.

Eighty-one of the items were donated to the Oakland Public Museum on December 7, 1915 by Wilcomb's daughter, Louise Wilcomb, after her father's death in 1915. All of the items on this list were most likely collected sometime between 1911 and 1915 when Wilcomb was going on extensive collecting trips to Maidu ancestral territory. These items are noted as coming from the following locations: Brush Creek, Butte Co.; Bean Creek, Butte Co.; Buckshot Johnson at Dogwood Creek, Feather River Canyon, Butte Co.; Berry Creek, Butte Co. (including Bald Rock, Sulphur Springs, Beau Creek); Pulga, Feather River Canyon, Butte Co.; Hunter's Ravine, Butte Co; Stanfield Hill, Butte Co.; Billy Day camp, Sulphur Springs, Butte Co.; Big Meadows, Plumas Co.

Two of the items included in the 1915 acquisition do not have collection location information. One of these items is a rattle that is very similar to another rattle being requested for repatriation that came from Dick Harris's camp. OMCA institutional records note that these two rattles were most likely “made by the same group of people, and perhaps by the same person.” The other item with no collection location information is a lot of Yo-Koli, however, as this item was originally cataloged in 1915 using the Konkow name (yo-koli) it is assumed to have come from Butte County.

Information provided by the Tribe indicates that Berry Creek Rancheria of Maidu Indians of California is culturally affiliated with the items and places associated with this claim. In 2007, random testing of OMCA's basket collection was conducted using pXRF technology. Three baskets included in this request for repatriation were tested at that time with positive results for mercury and negative results for arsenic. Two other baskets included on this request for repatriation were tested at that time, with negative results for both mercury and arsenic.

Determinations

The Oakland Museum of California has determined that:

• The 259 objects of cultural patrimony described in this notice have ongoing historical, traditional, or cultural importance central to the Native American group, including any constituent sub-group (such as a band, clan, lineage, ceremonial society, or other subdivision), according to the Native American traditional knowledge of an Indian Tribe or Native Hawaiian organization.

• There is a reasonable connection between the cultural items described in this notice and the Berry Creek Rancheria of Maidu Indians of California.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after June 10, 2024. If competing requests for repatriation are received, the Oakland Museum of California must determine the most appropriate requestor prior to repatriation. Requests for joint repatriation of the cultural items are considered a single request and not competing requests. The Oakland Museum of California is responsible for sending a copy of this notice to the Indian Tribes and Native Hawaiian organizations identified in this notice and to any other consulting parties.

Authority: Native American Graves Protection and Repatriation Act, 25 U.S.C. 3004 and the implementing regulations, 43 CFR 10.9.

Dated: April 30, 2024.
Melanie O'Brien,
Manager, National NAGPRA Program.

[FR Doc. 2024-10155 Filed 5-8-24; 8:45 am]

BILLING CODE 4312-52-P